DEPARTMENT OF HEALTH AND HUMAN SERVICES

Centers for Disease Control and Prevention

[60Day-05-05CD]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-371-5983 and send comments to Seleda Perryman, CDC Assistant Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Veterinary Student Survey—New—National Center for Infectious Diseases (NCID)—Centers for Disease Control and Prevention (CDC).

Background and Brief Description

The proposed survey asks veterinary students to describe their knowledge of various public health programs, their career interests post-graduation and how they arrived at such a decision, and their perception of the role veterinarians play in public health. The proposed study consists of an introductory letter and a self-administered, electronic questionnaire e-mailed to veterinary students in the United States. The Association of American Veterinary Medical Colleges (AAVMC) has agreed to collaborate on the survey and will provide a list of veterinary students from their membership mailing list. The study objectives are to describe current knowledge and attitudes of veterinary students regarding veterinary public health programs, and to determine their interests in a potential career in veterinary public health. There is no cost to respondents other than their time.

Estimate of Annualized Burden Hours
Respondents | Number of respondents | Number of responses per respondent | Average burden / response (in hours) | Total burden hours
Written Surveys | 5000 | 1 | 10/60 | 834
Total |  |  |  | 834

Dated: April 6, 2005.
Joan F. Karr,
Acting Reports Clearance Officer, Centers for Disease Control and Prevention.

[FR Doc. 05-9560 Filed 5-12-05; 8:45 am]

BILLING CODE 4163-18-P